DEPARTMENT OF HEALTH AND HUMAN SERVICES

National Institutes of Health

Center for Scientific Review Amended Notice of Meeting

Notice is hereby given of a change in the meeting of the Center for Scientific Review Special Emphasis Panel, February 9, 2009, 1 p.m. to February 9, 2009, 3 p.m., National Institutes of Health, 6701 Rockledge Drive, Bethesda, MD 20892 which was published in the Federal Register on January 23, 2009, 74 FR 4208-4210.

The meeting will be held February 23, 2009, from 1 p.m. to 4 p.m. The meeting location remains the same.

The meeting is closed to the public.

Dated: January 29, 2009.
Jennifer Spaeth,
Director, Office of Federal Advisory Committee Policy.

[FR Doc. E9-2386 Filed 2-4-09; 8:45 am]

BILLING CODE 4140-01-M